DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security.

Time and Date: 9 a.m. to 5 p.m., October 26, 2000, 9 a.m. to 5 p.m., October 27, 2000.

Place: Room 505A, Hubert H. Humphrey Building, 200 Independence Avenue, SW, Washington, D.C. 20201.

Status: Open.

Purpose: The purpose of this hearing is to allow the Subcommittee to better understand the current state of the issues related to electronic signatures from a business perspective, as they apply to the NCVHS recommendations to the Secretary of HHS concerning the adoption of an electronic signature standard to be used in healthcare under the Health Insurance Portability and Accountability Act of 1996 (HIPAA). This hearing will center on the business issues, legal considerations, standards available for adoption, current electronic signature practices, relationship with other industries, feasibility, and barriers for the adoption of standards for electronic signatures. Technical and infrastructure issues will only be discussed as they relate to the central topics described above, and will not be the focus of the hearing.

Notice: In the interest of security, the Department has instituted stringent procedures for entrance to the Hubert H. Humphrey building by non-government employees. Thus, persons without a government identification card will need to have the guard call for an escort to the meeting.

Contact Person for More Information: Substantive program information as well as summaries of meetings and a roster of committee members may be obtained from J. Michael Fitzmaurice, Senior Science Advisor for Information Technology, Agency for Health Care Research and Quality, 2101 East Jefferson Street, #600, Rockville, MD 20852, phone: (301) 594-3938; or Majorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/ where an agenda for the meeting will be posted when available.

Dated: October 4, 2000.
James Scanlon,
Director, Division of Data Policy, Office of the Assistant Secretary for Planning and Evaluation.

[FR Doc. 00-26096 Filed 10-11-00; 8:45 am]

BILLING CODE 4151-05-M